UTAH RECLAMATION MITIGATION AND CONSERVATION COMMISSION

Notice of Availability for the Pioneer Irrigation Diversion Final Environmental Assessment and Finding of No Significant Impact

AGENCY: Utah Reclamation Mitigation and Conservation Commission (Mitigation Commission).

ACTION: Notice of Availability.

SUMMARY: The Duchesne River in Duchesne County, Utah, provides both irrigation water and quality sport and native non-sport fisheries. However, some diversion structures impact fish habitat or inhibit fish passage and delivery of instream flows. The Mitigation Commission committed to work with Central Utah Water Conservancy District, Duchesne County Water Conservancy District and other local water users to modify or replace selected diversion structures on the Duchesne River above the confluence with Strawberry River that are causing the greatest problem for fish and wildlife resources.

Diversion structures were evaluated based on their potential adverse impacts on fish and wildlife resources. Diversions to be repaired or replaced were prioritized in an order most beneficial to fish and wildlife. The Mitigation Commission selected Pioneer Canal Diversion as one of the first diversions for modification or replacement.

Two alternatives were fully evaluated in the environmental assessment (EA): The “Proposed Action,” which is to reconstruct the Pioneer Diversion, and “No Action.” However, while only two alternatives were fully evaluated in the EA, other approaches were considered in developing the Proposed Action.

Proposed Action elements include: Realign about 1,000 feet of existing channel into a more stable pattern as it approaches and passes the diversion location; construct a new diversion, to include concrete wingwalls, fish passage notch, two flush bottom gates, and de-sanding structure; install rock weirs to increase downstream bed elevation for fish passage through the fish passage notch; remove and dispose of old diversion works; and, cooperate with U.S. Fish and Wildlife Service by contributing toward completion of an agency and public review draft status review report of the Ute ladies'-tresses orchid.

Two issues were raised regarding the proposed action during public and agency scoping for the EA: Potential for entrainment of fish into the Pioneer Canal and potential for effects on Ute ladies'-tresses (ULT) a threatened plant species.

The Mitigation Commission conducted field sampling in July 1999 to assess occurrence of fish in the Pioneer Canal. Based on sampling results, there does not appear to be a significant loss of fish into the canal system. Also, because the proposed action is designed to avoid most nearby ULT plants and suitable habitat, and because of the Mitigation Commission's involvement in completing a draft status review report, the proposed action may affect, but is not likely to adversely affect, Ute ladies'-tresses orchid. The U.S. Fish and Wildlife Service concurred with this determination via letter dated May 24, 2001.

Based on information contained in the EA and supporting documentation, the proposed action will not significantly affect the quality of human environment, under the meaning of Section 102(2)(C) of the National Environmental Policy Act. The Mitigation Commission consulted the U.S. Fish and Wildlife Service and determined the proposed action will not affect endangered species. No historic properties will be impacted by the project. And, based on consultation with the U.S. Corps of Engineers, reconstruction of Pioneer Diversion will be permitted under a General Permit issued to the State of Utah.

Therefore, after considering the EA analyses of environmental effects and public comments received during scoping and agency consultation, the proposed action has been selected for implementation.

DATES: Implementation of this decision may occur immediately upon signing of the Final Decision Notice and FONSI.

ADDRESSES: The final EA and FONSI is available at the Utah Reclamation Mitigation and Conservation Commission; 102 West 500 South, Suite #315, Salt Lake City, Utah 84101.

FOR FURTHER INFORMATION CONTACT: Joan Degiorgio, Planning Manager, 801-524-3146.

Dated: June 5, 2001.
Michael C. Weland,
Utah Reclamation Mitigation and Conservation Commission Executive Director.

[FR Doc. 01-15201 Filed 6-15-01; 8:45 am]

BILLING CODE 4310-05-P